DEPARTMENT OF LABOR

Employment and Training Administration

[TA-W-70,983]

Washington Mutual Jacksonville, FL; Notice of Termination of Investigation

Pursuant to Section 221 of the Trade Act of 1974, as amended, an investigation was initiated in response to a petition filed on June 5, 2009, by a One-Stop Operator on behalf of workers of Washington Mutual, Jacksonville, Florida.

The petitioner has requested that the petition be withdrawn. Accordingly, the investigation has been terminated.

Signed at Washington, DC, this 25th day of August 2009.
Elliott S. Kushner,
Certifying Officer, Division of Trade Adjustment Assistance.

[FR Doc. E9-29167 Filed 12-7-09; 8:45 am]

BILLING CODE 4510-FN-P